ENVIRONMENTAL PROTECTION AGENCY

[EPA-HQ-OECA-2013-0019; FRL-9903-31-OEI]

Information Collection Request Submitted to OMB for Review and Approval; Comment Request; NSPS for Electric Utility Steam Generating Units (Renewal)

AGENCY: Environmental Protection Agency (EPA).

ACTION: Notice.

SUMMARY: The Environmental Protection Agency has submitted an information collection request (ICR), “NSPS for Electric Utility Steam Generating Units (40 CFR Part 60, Subpart Da) (Renewal)” (EPA ICR No. 1053.11, OMB Control No. 2060-0023), to the Office of Management and Budget (OMB) for review and approval in accordance with the Paperwork Reduction Act (44 U.S.C. 3501 et seq). This is a proposed extension of the ICR, which is currently approved through March 31, 2014. Public comments were previously requested via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 2, 2014.

ADDRESSES: Submit your comments, referencing Docket ID Number EPA-HQ-OECA-2013-0019, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION:

Supporting documents which explain in detail the information that the EPA will be collecting are available in the public docket for this ICR. The docket can be viewed either online at www.regulations.gov, or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP at 40 CFR part 60, subpart A, and any changes, or additions to the Provisions, are specified at 40 CFR part 60, subpart Da. Owners or operators of the affected facilities must submit a onetime-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of electric utility steam generating units.

Respondent's obligation to respond: Mandatory (40 CFR part 60, subpart Da).

Estimated number of respondents: 710 (total).

Frequency of response: Initially, quarterly, and semiannually.

Total estimated burden: 168,258 hours (per year). “Burden” is defined at 5 CFR 1320.3(b).

Total estimated cost: $29,143,496 (per year), includes $12,685,000 annualized capital or operation & maintenance costs.

Changes in the Estimates: There is an increase of 7,419 hours in the total estimated respondent burden compared with the ICR currently approved by OMB. There is also an increase in capital/startup and O&M costs as compared to the previous ICR. All changes from the most recently approved ICR are due to an increase in the number of existing sources subject to the standard, and are not due to any program changes. The number of existing sources has been increased to account for industry growth that has occurred since the most recent ICR was approved.

There is also an increase in respondent and Agency burden costs from the most-recently approved ICR due to the use of updated labor rates. This ICR references labor rates from the Bureau of Labor Statistics to calculate respondent burden costs, and references labor rates from OPM to calculate Agency burden costs.

John Moses,
Director, Collection Strategies Division.

[FR Doc. 2013-28783 Filed 11-29-13; 8:45 am]

BILLING CODE 6560-50-P